DEPARTMENT OF THE INTERIOR

National Park Service

[NPS-WASO-NAGPRA-NPS0040327; PPWOCRADN0-PCU00RP14.R50000]

Notice of Intended Disposition: U.S. Department of the Interior, Bureau of Land Management, Wyoming State Office, Cheyenne, WY

AGENCY: National Park Service, Interior.

ACTION: Notice.

SUMMARY: In accordance with the Native American Graves Protection and Repatriation Act (NAGPRA), the Wyoming Bureau of Land Management intends to carry out the disposition of human remains and associated funerary objects removed from Federal or Tribal lands to the lineal descendants, Indian Tribe, or Native Hawaiian organization with priority for disposition in this notice.

DATES: Disposition of the human remains and associated funerary objects in this notice may occur on or after July 11, 2025. If no claim for disposition is received by June 11, 2026, the human remains and associated funerary objects in this notice will become unclaimed human remains and associated funerary objects.

ADDRESSES: Send written claims for disposition of the human remains and associated funerary objects in this notice to Andrew Archuleta, State Director Wyoming Bureau of Land Management, 5353 Yellowstone Road, Cheyenne, WY 82009, email blm_wy_copywork@blm.gov.

SUPPLEMENTARY INFORMATION: This notice is published as part of the National Park Service's administrative responsibilities under NAGPRA. The determinations in this notice are the sole responsibility of the Wyoming Bureau of Land Management, and additional information on the human remains and associated funerary objects in this notice, including the results of consultation, can be found in the related records. The National Park Service is not responsible for the identifications in this notice.

Abstract of Information Available

Based on the information available, human remains representing, at least, four individuals have been reasonably identified. The 44 associated funerary objects are soil samples, debitage/flakes, fauna, flora, biface, bone awl, and a projectile point.

In 1994, human remains representing, one individual were removed from a known location on BLM lands In the Green River Basin in Sublette County, WY, as part of an archeological excavation. The human remains (DB155) represent a 13-15 year old Native American female. No associated funerary objects were recovered.

In 2002, human remains representing, one individual were removed from a known location on BLM lands near Studhorse Butte in Sublette County, WY, as part of an archeological excavation. The human remains (DB171) represent a 60+ year old Native American female. As determined by the consulting parties, 13 associated funerary objects (soil samples, debitage/flakes, fauna, and a projectile point) were recovered in archeological site 48SU4479.

In 2004, human remains representing, one individual were removed from a known location on BLM lands near Red Lake in Sweetwater County, WY, during gravel pit construction. The human remains (DB181) represent a 55+ year old Native American female. No associated funerary objects were recovered.

Prior to 2005, human remains representing, one individual were removed from an unknown location on BLM lands near Tensleep in Washakie County, WY, as part of a crime scene investigation. The human remains (48SW1957) represent an unknown aged Native American of unknown gender. As determined by the consulting parties, 31 associated funerary objects (debitage, flakes, flora, biface, bone awl) were recovered in archeological site 48SW5860.

Determinations

The Wyoming Bureau of Land Management has determined that:

• The human remains described in this notice represent the physical remains of four individuals of Native American ancestry.

• The 44 objects described in this notice are reasonably believed to have been placed intentionally with or near individual human remains at the time of death or later as part of the death rite or ceremony.

• The Assiniboine and Sioux Tribes of the Fort Peck Indian Reservation, Montana; Blackfeet Tribe of the Blackfeet Indian Reservation of Montana; Cheyenne River Sioux Tribe of the Cheyenne River Reservation, South Dakota; Chippewa Cree Indians of the Rocky Boy's Reservation, Montana; Crow Tribe of Montana; Eastern Shoshone Tribe of the Wind River Reservation, Wyoming; Fort Belknap Indian Community of the Fort Belknap Reservation of Montana; Kiowa Indian Tribe of Oklahoma; Northern Arapaho Tribe of the Wind River Reservation, Wyoming; Northern Cheyenne Tribe of the Northern Cheyenne Indian Reservation, Montana; Oglala Sioux Tribe; Pawnee Nation of Oklahoma; Rosebud Sioux Tribe of the Rosebud Indian Reservation, South Dakota; Standing Rock Sioux Tribe of North & South Dakota; and the Winnebago Tribe of Nebraska have priority for disposition of the human remains and associated funerary objects described in this notice.

Claims for Disposition

Written claims for disposition of the human remains and associated funerary objects in this notice must be sent to the appropriate official identified in this notice under ADDRESSES. If no claim for disposition is received by June 11, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after July 11, 2025. If competing claims for disposition are received, the Wyoming Bureau of Land Management must determine the most appropriate claimant prior to disposition. Requests for joint disposition of the human remains and associated funerary objects are considered a single request and not competing requests. The Wyoming Bureau of Land Management is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: May 28, 2025.
Melanie O'Brien,
Manager, National NAGPRA Program.

[FR Doc. 2025-10597 Filed 6-10-25; 8:45 am]

BILLING CODE 4312-52-P